DEPARTMENT OF THE INTERIOR

National Park Service

[NPS-NER-MAVA-18479; PX.P0073134K.00.1]

Notice of Termination of the Environmental Impact Statement for the General Management Plan for Martin Van Buren National Historic Site, New York

AGENCY: National Park Service, Interior.

ACTION: Notice of termination.

SUMMARY: The National Park Service (NPS) is preparing a general management plan (GMP) for Martin Van Buren National Historic Site. A Notice of Intent to prepare an environmental impact statement (EIS) for the GMP was published in the Federal Register on December 11, 2007. The NPS has decided to terminate the EIS and instead, has prepared an environmental assessment (EA) for the GMP (GMP/EA).

DATES: The GMP/EA is expected to be distributed for public review and comment during the summer of 2015. The NPS will provide information on when the GMP/EA will be released for public review, the dates of the public comment period, and the dates that public meetings will be held on the park's planning Web site at http://parkplanning.nps.gov/mava and through local and regional media.

ADDRESSES: Refer to the park's planning Web site at http://parkplanning.nps.gov/mava for additional information on where and how to obtain a copy of the GMP/EA, how to comment on the GMP/EA, and locations of upcoming public meetings.

FOR FURTHER INFORMATION CONTACT: Jim O'Connell, Project Manager; NPS/Northeast Region; 15 State Street; Boston, MA 02019 or Sarah Olson, Superintendent; Martin Van Buren NHS; 1013 Old Post Road; Kinderhook, NY 12106.

SUPPLEMENTARY INFORMATION: The GMP for Martin Van Buren National Historic Site will provide long-term guidance for resource management, visitor services, and interpretive programming. The three GMP alternatives evaluated in the GMP/EA focus on management of lands added to the park in 2009, maintaining and protecting resources, visitor use, facilities, access, interpretation, and NPS operations in the park as a whole. GMP planning and alternatives development incorporated input from park partners and cooperators; participants in local community meetings; consultation with local, regional, and national government agencies; and comments gathered at a 2009 public scoping session. The public was informed about the process and invited to participate through newsletters, emails, letters, and response cards.

The GMP was originally scoped as an EIS; however, internal discussions and input received during public and agency scoping did not raise any potentially significant environmental issues nor has the impact analysis identified any potentially significant adverse impacts. It is also noted that many of the actions proposed in the GMP/EA will have benefits to the park's resources, operational needs, and visitor experiences. For these reasons the NPS determined that an EA is the appropriate level of environmental review for the GMP.

Dated: June 18, 2015.
Jonathan Meade,
Deputy Regional Director, Northeast Region, National Park Service.

[FR Doc. 2015-18592 Filed 7-28-15; 8:45 am]

BILLING CODE 4310-WV-P